DEPARTMENT OF LABOR

Office of the Secretary

Bureau of International Labor Affairs; Procedural Guidelines for the Maintenance of the List of Products Requiring Federal Contractor Certification as to Forced or Indentured Child Labor Under 48 CFR Subpart 22.15 and E.O. 13126

AGENCY: Office of the Secretary, Labor.

ACTION: Notice of procedural guidelines.

SUMMARY: This notice sets out procedural guidelines pertaining to the submission of information, review, and reporting process utilized by the Department of Labor's International Child Labor Program in maintaining and revising the list of products requiring certification as to forced or indentured child labor, pursuant to amendments to the Federal Acquisition Regulation (FAR), 48 CFR Subpart 22.15 and Executive Order No. 13126 (“Prohibition of Acquisition of Products Produced by Forced or Indentured Child Labor”).

EFFECTIVE DATE: January 18, 2001.

FOR FURTHER INFORMATION CONTACT: Ami Thakkar, International Child Labor Program, Bureau of International Labor Affairs, Room S-5303, U.S. Department of Labor, 200 Constitution Avenue, NW., Washington, DC 20210; telephone: (202) 208-4843; fax: (202) 219-4923.

SUPPLEMENTARY INFORMATION: Executive Order No. 13126 (“Prohibition of Acquisition of Products Produced by Forced or Indentured Child Labor”) was signed by President Clinton on June 12, 1999. The Executive Order declared that it was “the policy of the United States Government * * * that the executive agencies shall take appropriate actions to enforce the laws prohibiting the manufacture or importation of goods, wares, articles, and merchandise mined, produced, or manufactured wholly or in part by forced or indentured child labor.”

Pursuant to Section 2 of the Executive Order, and following public notice and comment (including a public hearing held on August 10, 1999), the Department of Labor is publishing in today's Federal Register a final list of products, identified by their country of origin, that the Department, in consultation and cooperation with the Departments of State and Treasury, has a reasonable basis to believe might have mined, produced or manufactured with forced or indentured child labor. The List can be accessed on the Internet at www.dol.gov/dol/ilab or can be obtained from: International Child Labor Program, Bureau of International Labor Affairs, Room S-5303, U.S. Department of Labor, 200 Constitution Avenue, NW., Washington, DC 20210; telephone: (202) 208-4843; fax (202) 219-4923.

Pursuant to Section 3 of the Executive Order, in today's Federal Register, the Federal Acquisition Regulatory Councils published a final rule, pursuant to which federal contractors who supply products which appear on the list issued by the Department of Labor must certify to the contracting officer that the contractor or, in the case of an incorporated contractor, a responsible official of the contractor has made a good faith effort to determine whether forced or indentured child labor was used to mine, produce, or manufacture any product furnished under the contract and that, on the basis of those efforts, the contractor is unaware of any such use of child labor. The regulation also imposes other requirements with respect to contracts for products on the Department of Labor's list.

The Department of Labor expects that, over time, new information may become available with respect to the use of forced or indentured child labor and that other developments relevant to the list of products requiring certification as to forced or indentured child labor may occur. For example, new instances of the use of forced or indentured child labor may be discovered. Alternatively, the practice of using forced or indentured child labor in a particular country or industry may be effectively eliminated.

Accordingly, to carry out the purposes of FAR Subpart 22.15 and Executive Order No. 13126, the Department of Labor, may be required to examine and/or revise the list originally published today. The Department of Labor believes that it would be appropriate to establish a process by which members of the public may bring relevant information to the attention of the Department of Labor.

This Notice sets out the procedural guidelines that the Department of Labor intends to follow to maintain, examine, and, as appropriate, revise the list of products required by Executive Order No. 13126 and incorporated in 48 CFR Subpart 22.15. Under the guidelines, public notice and opportunity for comment will be provided before a product is added to, or deleted from, the Department of Labor's list.

Signed at Washington, DC, this 5th day of January, 2001.
Andrew J. Samet,
Deputy Under Secretary for International Affairs.

Notice of Procedural Guidelines

Section A. What Department of Labor Office Is Responsible for Maintaining the List of Products Requiring Federal Contractor Certification as to Forced or Indentured Child Labor?

1. The International Child Labor Program, within the Bureau of International Labor Affairs of the U.S. Department of Labor, will review all submissions of information relevant to the List of Products Requiring Federal Contractor Certification as to Forced or Indentured Child Labor, as published pursuant to Executive Order No. 13126 (“Prohibition of Acquisition of Products Produced by Forced or Indentured Child Labor”), and reflected in the FAR 48 CFR Subpart 22.15.

2. The International Child Labor Program, in consultation with the Departments of State and Treasury, will determine if such submissions may establish the need to add entries to, or delete entries from, the List of Products Requiring Federal Contractor Certification as to Forced or Indentured Child Labor.

Section B. What Do the Terms Used in These Procedural Guidelines Mean?

As used in these Guidelines:

“Adequate information” means information relevant to the development of a reasonable basis for belief that a particular product included or not included on the List might have been mined, produced, or manufactured wholly or in part by forced or indentured child labor;

“The List” means the List of Products Requiring Contractor Certification as to Forced or Indentured Child Labor as published in accordance with Executive Order 13126 and reflected in FAR 48 CFR Subpart 22.15;

“Non-governmental organization” means any scientific, professional, business, non-profit, or public interest organization or association which is neither affiliated with, nor under the direction of, a government;

“Office” means the International Child Labor Program of the Bureau of International Labor Affairs of the United States Department of Labor;

“Person” means one or more individuals, non-governmental organizations, labor organizations, partnerships, associations, corporations, governmental entities, or legal representatives.

Section C. What Are the Functions of the Office With Respect to the List?

1. The Office shall—

(a) In consultation and cooperation with the Departments of State and Treasury, compile and maintain a current list of products and their countries of origin contained on the List;

(b) Periodically review and revise the List, as appropriate, either on the basis of information submissions from members of the public or on its own initiative, subject to public notice and comment;

(c) Receive, accept for review, and review information submissions pertaining to the inclusion on or deletion from the List, as set out in Sections D, E, and F;

(a) Consider and weigh several factors including: the nature of the information describing the use of forced or indentured child labor; the source of the information; the date of the information; the extent of corroboration of the information by appropriate sources; whether the information involved more than an isolated incident; and whether recent and credible efforts are being made to address forced or indentured child labor in a particular country and industry; and

(e) Include in the List the name and telephone number of the office responsible for its maintenance.

2. The List shall indicate—

(a) The names of products, identified by their country of origin, for which there is a reasonable basis to believe that the product might have been mined, produced, or manufactured wholly or in part by forced or indentured child labor;

(b) The date on which the product was included on the List.

3. Questions on the List—information is available by direct request to the Office by writing the International Child Labor Program, Bureau of International Labor Affairs, Rm. S-5303, U.S. Department of Labor, 200 Constitution Ave, NW., Washington, DC 20210.

Section D. How May a Person Submit Information to the Office Regarding Adding or Deleting a Product From the List?

1. Any person may file an information submission with the Office regarding either the inclusion of a product on the List or the deletion of a product from the List. A single copy is satisfactory for filing. Filing may be by hand delivery, mail delivery, or facsimile transmission.

2. The submission should identify clearly the person filing the submission and should be signed and dated. It should state with specificity the product and its country of origin which the submitter requests the Office to consider and should include relevant information available to the submitter.

Section E. How will the Office decide to accept a submission of information?

1. Within 60 days, unless there are good reasons for delay, the Office will decide whether to accept a submission of information for review. The Office may communicate with the submitter during this period regarding any matter relating to the decision.

2. In general, the Office may accept a submission of information if it provides adequate information and if a review would not be inconsistent with Executive Order No. 13126 or applicable laws or regulations.

3. The Office may decline to accept a submission for review if, in its discretion, it determines that:

(a) The submission does not identify clearly the person filing the submission or is not signed and dated;

(b) The submission does not provide adequate information;

(c) The matter raised is not within the scope of 48 CFR Subpart 22.15 or Executive Order No. 13126.

(d) The submission is substantially similar to a recent submission and significant new information has not been provided; or

(e) Review of the submission would otherwise be inappropriate.

4. If the Office declines to accept a submission for review, the Office promptly will notify the submitter in writing and will provide the reasons for the decision.

5. If the Office accepts a submission of information, review will follow those procedures described in Section F.

Section F. What review process will be followed after a submission of information is accepted by the Office?

1. Following a decision by the Office to accept a submission of information, the Office will conduct such further examination of the available information as necessary or appropriate to assist the Office in making a determination.

2. Except for information exempt from public inspection, information relevant to the review will be placed in a public file. Information exempt from public inspection will be placed in a separate file.

3. The Office, in its discretion, may hold a hearing regarding the product raised in the submission of information, for the purpose of receiving information from interested persons.

4. The Office, after consulting with the Departments of Treasury and State, will publish in the Federal Register a notice of initial determination, which will include any proposed alteration to be made to the List. Public comments will be accepted for at least 30 days following publication of the Federal Register notice. Submissions relating to the same product and country may be resolved by joint determinations.

5. Any person may submit, in person, in writing, or through a representative, information and argument in support of or in opposition to the proposed determination, including any additional specific information that relates to the proposed revision of the List. The Office will consider all comments prior to publication of a final determination, which will be made in consultation and cooperation with the Departments of State and Treasury.

Section G. What process will the Office use to update the List on its own initiative?

1. If the Office obtains adequate information, other than through public submission, it will publish in the Federal Register a notice of initial determination, which will include any proposed alteration to be made to the List. Public comments will be accepted for at least 30 days following publication of the notice of initial determination.

2. Any person may submit, in person, in writing, or through a representative, information and argument in support of or in opposition to the initial determination, including any additional specific information that relates to the proposed revision of the List. The Office will consider all comments prior to publication of a final determination, made in consultation and cooperation with the Departments of State and Treasury.

Section H. How will the Office communicate a final determination about a product's placement on the List?

1. A final determination on whether a product will be added to, or deleted from, the List will be published in the Federal Register.

2. The List will be revised in accordance with a final determination as to a particular product, identified by its country of origin. The Office will maintain a current copy of the List.

[FR Doc. 01-952 Filed 1-17-01; 8:45 am]

BILLING CODE 4510-28-P